ENVIRONMENTAL PROTECTION AGENCY

[EPA-HQ-OW-2014-0359; FRL 8868-01-OW]

Proposed Information Collection Request Extension; Comment Request; Information Request for the Underground Injection Control Program

AGENCY: Environmental Protection Agency (EPA).

ACTION: Notice.

SUMMARY: The Environmental Protection Agency (EPA) is planning to submit an information collection request (ICR), “Information Collection Request for the Underground Injection Control (UIC) program” (EPA ICR No. 0370.27, OMB Control No. 2040-0042) to the Office of Management and Budget (OMB) for review and approval in accordance with the Paperwork Reduction Act (PRA)). Before doing so, EPA is soliciting public comments on specific aspects of the proposed information collection as described in the SUPPLEMENTAL INFORMATION section of this document. This is a proposed 3-year extension of the ICR, which is currently approved through April 30, 2022. An Agency may not conduct or sponsor and a person is not required to respond to a collection of information unless it displays a currently valid OMB control number.

DATES: Comments must be submitted on or before October 25, 2021.

ADDRESSES: Submit your comments, referencing Docket ID No. EPA-HQ-OW-2014-0359 online using www.regulations.gov (our preferred method), by email to OW-Docket@epa.gov, or by mail to: EPA Docket Center, Environmental Protection Agency, Mail Code 28221T, 1200 Pennsylvania Ave. NW, Washington, DC 20460.

EPA's policy is that all comments received will be included in the public docket without change including any personal information provided, unless the comment includes profanity, threats, information claimed to be Confidential Business Information (CBI) or other information whose disclosure is restricted by statute.

FOR FURTHER INFORMATION CONTACT: Kyle Carey, Drinking Water Protection Division, Office of Groundwater and Drinking Water, 4606M, Environmental Protection Agency, 1200 Pennsylvania Ave. NW, Washington, DC 20460; telephone number: (202) 564-2322; fax number: (202) 564-3756; email address: carey.kyle@epa.gov.

SUPPLEMENTARY INFORMATION: Supporting documents which explain in detail the information that the EPA will be collecting are available in the public docket for this ICR. The docket can be viewed online at https://www.regulations.gov. The EPA is temporarily suspending its Docket Center and Reading Room for public visitors, with limited exceptions, to reduce the risk of transmitting COVID-19. Our Docket Center staff will continue to provide remote customer service via email, phone, and webform. We encourage the public to submit comments, go to https://www.regulations.gov. For additional information about EPA's public docket, visit http://www.epa.gov/dockets.

Pursuant to section 3506(c)(2)(A) of the PRA, EPA is soliciting comments and information to enable it to: (i) Evaluate whether the proposed collection of information is necessary for the proper performance of the functions of the Agency, including whether the information will have practical utility; (ii) evaluate the accuracy of the Agency's estimate of the burden of the proposed collection of information, including the validity of the methodology and assumptions used; (iii) enhance the quality, utility, and clarity of the information to be collected; and (iv) minimize the burden of the collection of information on those who are to respond, including through the use of appropriate automated electronic, mechanical, or other technological collection techniques or other forms of information technology, e.g., permitting electronic submission of responses. EPA will consider the comments received and amend the ICR as appropriate. The final ICR extension request package will then be submitted to OMB for review and approval. At that time, EPA will issue another Federal Register notice to announce the submission of the ICR extension request package to OMB and the opportunity to submit additional comments to OMB.

Abstract: EPA developed the Underground Injection Control (UIC) Program under the authority of the Safe Drinking Water Act to establish a federal-state regulatory system to protect underground sources of drinking water (USDWs) from injection fluids and injection-related activities. Injected fluids include hazardous waste, oil field brines or produced water, mineral processing fluids, various types of industrial fluids, automotive, sanitary, and other wastes, and carbon dioxide injected for geologic sequestration. Owners or operators of injection wells must obtain permits, conduct environmental monitoring, maintain records, and report results to the EPA or the state agency (if the state has UIC primary enforcement responsibility (primacy)). States must report to the EPA on permittee compliance and related information. This mandatory information is reported using standardized forms and annual reports. The governing regulations are codified in the Code of Federal Regulations (CFR) at 40 CFR parts 144 through 148. Reporting data are used by UIC authorities to ensure the protection of USDWs.

Form Numbers: 7520-1, 7520-2A, 7520-28. 7520-3, 7520-4, 7520-6, 7520-7, 7520-8, 7520-9, 7520-10, 7520-11, 7520-12, 7520-14, 7520-16, and 7520-17.

Respondents/affected entities: Owners or operators of underground injection wells and state UIC primacy agencies.

Respondent's obligation to respond: Mandatory (40 CFR parts 140 through 148).

Estimated number of respondents: 35,385 (total).

Frequency of response: Annual, semi-annual, and quarterly.

Total estimated burden: 1,617,274 hours (per year). Burden is defined at 5 CFR 1320.03(b).

Total estimated cost: $319,605,059 (per year), includes $243,531,752 annualized capital or operation and maintenance costs.

Changes in estimates: Changes and developments in many aspects of the UIC program during the previous ICR period directly impact the estimates used in this ICR extension. For example, variations in permitting and closures across well classes and well inventory, revisions to UIC primacy programs, efforts to streamline the permit application process, alterations to state and operator reporting systems and other factors all cause variations in the ICR estimates. For the UIC ICR extension there is an increase of 325,014 hours in the total estimated respondent burden compared with the ICR currently approved by OMB. This increase is due to changes in the injection well inventory and adjustments to the number of permit applications (particularly for Class VI wells) that are expected to be prepared and reviewed.

Jennifer L. McLain,
Director, Office of Ground Water and Drinking Water.

[FR Doc. 2021-18240 Filed 8-24-21; 8:45 am]

BILLING CODE 6560-50-P